DEPARTMENT OF THE INTERIOR

National Park Service

[NPS-WASO-NRNHL-DTS#-29991; PPWOCRADI0, PCU00RP14.R50000]

National Register of Historic Places; Notification of Pending Nominations and Related Actions

AGENCY: National Park Service, Interior.

ACTION: Notice.

SUMMARY: The National Park Service is soliciting comments on the significance of properties nominated before March 7, 2020, for listing or related actions in the National Register of Historic Places.

DATES: Comments should be submitted by April 14, 2020.

ADDRESSES: Comments may be sent via U.S. Postal Service and all other carriers to the National Register of Historic Places, National Park Service, 1849 C Street NW, MS 7228, Washington, DC 20240.

SUPPLEMENTARY INFORMATION:

The properties listed in this notice are being considered for listing or related actions in the National Register of Historic Places. Nominations for their consideration were received by the National Park Service before March 7, 2020. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

DISTRICT OF COLUMBIA

District of Columbia

District of Columbia Recorder of Deeds, 515 D St. NW, Washington, SG100005181

GEORGIA

Fulton County

Briarcliff Plaza, 1027 and 1061 Ponce de Leon Ave. NE, Atlanta, SG100005182

LOUISIANA

East Baton Rouge Parish

Southern University Historic District (Boundary Increase), Roughly bounded by Harding Blvd., the Mississippi River, Roosevelt Steptoe Dr. and the eastern edge of Lake Kernan, Baton Rouge, BC100005185

Jefferson Parish

Humble Oil Camp Historic District, (Louisiana Coastal Vernacular: Grand Isle 1780-1968 MPS), 101-143 Marlin Ln., Grand Isle, MP100005188

Lafourche Parish

Peltier, Harvey Andrew, Sr., House, 430 East 1st St., Thibodaux, SG100005187

Orleans Parish

Norwegian Seamen's Church, 1758-1772 Prytania St., New Orleans, SG100005186

MICHIGAN

Manistee County

Guardian Angels Church, 371-375 Fifth St., Manistee, SG100005180

NEW JERSEY

Gloucester County

West Jersey Rail Road Glassboro Depot, 354 Oakwood Ave., Glassboro, SG100005179

WISCONSIN

Sauk County

Simonds 10-Sided Barn, (Wisconsin Centric Barns MPS), S4680 Rocky Point Rd., Greenfield, MP100005183

Additional documentation has been received for the following resource:

LOUISIANA

Orleans Parish

Vieux Carré Historic District (Additional Documentation), Bounded by the Mississippi River, Rampart and Canal Sts., and Esplanade Ave., New Orleans, AD66000377

Authority: Section 60.13 of 36 CFR part 60.

Dated: March 9, 2020.
Julie H. Ernstein,
Supervisory Archeologist, National Register of Historic Places/National Historic Landmarks Program.

[FR Doc. 2020-06487 Filed 3-27-20; 8:45 am]

BILLING CODE 4312-52-P